DEPARTMENT OF JUSTICE

Notice of Lodging of Consent Decree Under the Clean Water Act

Under 28 CFR 50.7, notice is hereby given that on August 20, 2009, a proposed Modification to Settlement Agreement and Final Order (“Modification”) in United States and State of California ex rel. California Regional Water Quality Control Board, Los Angeles Region v. City of Los Angeles, Civil Action No. 01-191-RSWL, was lodged with the United States District Court for the Central District of California, Western Division. The United States and the State's action is consolidated with Santa Monica Baykeeper v. The City of Los Angeles, Civil Action No. 98-9039-RSWL.

Under the proposed Modification, the Odor Control provisions of the Settlement Agreement and Final Order, entered by the Court on October 28, 2004, will be amended. The City of Los Angeles (“the City”) will take new and/or modified actions to control odors from the City's sewers and to involve affected communities in the planning process for these actions. The Modification also replaces two Supplemental Environmental Projects specified in the Settlement Agreement and Final Order with a new project, the Garvanza Park Water Quality Enhancement BMP Project, at the same cost to the City.

The Department of Justice will receive for a period of thirty (30) days from the date of this publication comments relating to the Modification. Comments should be addressed to the Assistant Attorney General, Environment and Natural Resources Division, and either e-mailed to pubcomment-ees.enrd@usdoj.gov or mailed to P.O. Box 7611, U.S. Department of Justice, Washington, DC 20044-7611, and should refer to the Modification between the United States, the State of California and the City of Los Angeles, DOJ Ref. No. 90-5-1-1-809/1.

The Modification may be examined at EPA's office, 75 Hawthorne Street, San Francisco, CA 94105. During the public comment period, the Settlement Agreement may also be examined on the following Department of Justice Web site, http://www.usdoj.gov/enrd/Consent_Decrees.html. A copy of the Settlement Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.00 (25 cents per page reproduction cost) payable to the U.S. Treasury or, if by e-mail or fax, forward a check in that amount to the Consent Decree Library at the stated address.

Maureen Katz,
Assistant Section Chief, Environmental Enforcement Section, Environment and Natural Resources Division.

[FR Doc. E9-20525 Filed 8-25-09; 8:45 am]

BILLING CODE 4410-15-P